DEPARTMENT OF THE INTERIOR

National Park Service

Concessions Management Advisory Board; Notice of Public Meeting

AGENCY: National Park Service, Department of the Interior.

ACTION: Notice of meeting.

SUMMARY: Notice is hereby given that the 21st meeting of the Concessions Management Advisory Board will be held at 1 p.m. on March 9, 2010, and 9 a.m. on March 10, 2010, at the Doubletree Hotel, 1515 Rhode Island Avenue, NW., Washington, DC 20005.

ADDRESSES: Doubletree Hotel, State Room, 1515 Rhode Island Avenue, NW., Washington, DC 20005; Phone number: 202-232-7000.

FOR FURTHER INFORMATION CONTACT: National Park Service, Commercial Services Program, 1201 Eye Street, NW., Washington, DC 20005, Telephone: 202/513-7156.

SUPPLEMENTARY INFORMATION: The Board was established by Title IV, Section 409 of the National Parks Omnibus Management Act of 1998, November 13, 1998 (Pub. L. 105-391). The purpose of the Board is to advise the Secretary and the National Park Service on matters relating to management of concessions in the National Park System. The members of the Advisory Board are: Dr. James J. Eyster, Ms. Ramona Sakiestewa, Mr. Richard Linford, and Mr. Phil Voorhees.

Topics that will be presented during the meeting include:

• Concession Contracting Status Update.

• Regional Reports.

• Standards, Evaluations, and Rate Approval Project Update.

• Update on Professionalization of Commercial Services Program—Human Capital Strategy.

• New business.

The meeting will be open to the public, however, facilities and space for accommodating members of the public are limited, and persons will be accommodated on a first-come-first-served basis. Efforts have been made locally to ensure that the interested public is aware of the meeting dates. An unprecedented weather-related 4-day Federal Government closure has resulted in the publication of this notice less than 15 days before the date of the meeting. Rescheduling the meeting would create an unnecessary burden for members of the public who have already arranged their schedules around that date.

Assistance to Individuals With Disabilities at the Public Meeting

The meeting site is accessible to individuals with disabilities. If you plan to attend and will require an auxiliary aid or service to participate in the meeting (e.g., interpreting service, assistive listening device, or materials in an alternate format), notify the contact person listed in this notice at least 2 weeks before the scheduled meeting date. Attempts will be made to meet any request(s) we receive after that date, however, we may not be able to make the requested auxiliary aid or service available because of insufficient time to arrange for it.

Anyone may file with the Board a written statement concerning matters to be discussed. The Board may also permit attendees to address the Board, but may restrict the length of the presentations, as necessary to allow the Board to complete its agenda within the allotted time. Such requests should be made to the Director, National Park Service, Attention: Chief, Commercial Services Program, at least 7 days prior to the meeting. Draft minutes of the meeting will be available for public inspection approximately 6 weeks after the meeting, at the Commercial Services Program office located at 1201 Eye Street, NW., 11th Floor, Washington, DC.

Dated: February 19, 2010.
Daniel N. Wenk,
Deputy Director.

[FR Doc. 2010-3868 Filed 2-24-10; 8:45 am]

BILLING CODE 4312-53-P